DEPARTMENT OF TRANSPORTATION

Federal Aviation Administration

14 CFR Part 39

[Docket No. FAA-2015-5815; Directorate Identifier 2015-NM-039-AD; Amendment 39-18443; AD 2016-06-12]

RIN 2120-AA64

Airworthiness Directives; Airbus Airplanes

AGENCY: Federal Aviation Administration (FAA), Department of Transportation (DOT).

ACTION: Final rule.

SUMMARY: We are adopting a new airworthiness directive (AD) for certain Airbus Model A330-200 and -300 series airplanes; and all Model A340-200, -300, -500, and -600 series airplanes. This AD was prompted by reports that the potable water service panel access door was lost during flight. This AD requires modifying affected potable water service panel access doors. We are issuing this AD to prevent failure of the latching mechanism of the potable water service panel access door, which could result in the loss of the potable water service panel access door during flight, and resultant damage to the airplane (e.g., damage to the trimmable horizontal stabilizer) that could cause loss of control of the airplane.

DATES: This AD becomes effective May 3, 2016.

The Director of the Federal Register approved the incorporation by reference of certain publications listed in this AD as of May 3, 2016.

ADDRESSES: For service information identified in this final rule, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2015-5815.

Examining the AD Docket

You may examine the AD docket on the Internet at http://www.regulations.gov by searching for and locating Docket No. FAA-2015-5815; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

We issued a notice of proposed rulemaking (NPRM) to amend 14 CFR part 39 by adding an AD that would apply to certain Airbus Model A330-200 and -300 series airplanes; and all Model A340-200, -300, -500, and -600 series airplanes. The NPRM published in the Federal Register on November 27, 2015 (80 FR 74042) (“the NPRM”).

The European Aviation Safety Agency (EASA), which is the Technical Agent for the Member States of the European Union, has issued EASA Airworthiness Directive 2015-0028R1, dated May 29, 2015, dated (referred to after this as the Mandatory Continuing Airworthiness Information, or “the MCAI”), to correct an unsafe condition for certain Airbus Model A330-200 and -300 series airplanes; and all Model A340-200, -300, -500, and -600 series airplanes. The MCAI states:

Several cases have been reported in which the potable water service panel access door was lost during flight, causing damage to the trimmable horizontal stabilizer. The results of subsequent investigations showed that these events were due to failure of the latching mechanism of the potable water service panel access door.

This condition, if not corrected, could lead to further cases of in-flight loss of the potable water service panel access door, possibly resulting in injury to persons on ground and/or damage to the aeroplane [(e.g., damage to the trimmable horizontal stabilizer)].

To address this condition, Airbus developed a modification and published Service Bulletin (SB) A330-52-3086, SB A340-52-4094 and SB A340-52-5019, to provide instructions for in-service accomplishment of that modification.

Consequently, EASA issued [an] AD * * * to require modification of the potable water service panel access door 164AR for A330/A340-200/-300 aeroplanes or 154BR for A340-500/-600 aeroplanes, which includes installation of reinforced hinge screws and more robust latches.

Since that [EASA] AD was issued, it was determined that aeroplanes that have embodied Airbus Mod 201938 (Improvement of latching mechanism of potable water service panel) are also not affected by the requirements of this [EASA] AD.

For the reason described above, this [EASA] AD is revised to exclude post-mod 201938 aeroplanes from the Applicability.

You may examine the MCAI in the AD docket on the Internet at http://www.regulations.gov by searching for and locating Docket No. FAA-2015-5815.

Comments

We gave the public the opportunity to participate in developing this AD. We received no comments on the NPRM or on the determination of the cost to the public.

Conclusion

We reviewed the relevant data and determined that air safety and the public interest require adopting this AD as proposed except for minor editorial changes. We have determined that these minor changes:

• Are consistent with the intent that was proposed in the NPRM for correcting the unsafe condition; and

• Do not add any additional burden upon the public than was already proposed in the NPRM.

Related Service Information Under 1 CFR Part 51

Airbus has issued the following service information.

• Airbus Service Bulletin A330-52-3086, Revision 01, dated April 25, 2014.

• Airbus Service Bulletin A340-52-4094, Revision 01, dated April 25, 2014.

• Airbus Service Bulletin A340-52-5019, Revision 01, dated April 25, 2014.

The service information describes procedures for modifying the affected potable water service panel access door. This service information is reasonably available because the interested parties have access to it through their normal course of business or by the means identified in the ADDRESSES section.

Costs of Compliance

We estimate that this AD affects 63 airplanes of U.S. registry.

We also estimate that it will take about 21 work-hours per product to comply with the basic requirements of this AD. The average labor rate is $85 per work-hour. Required parts will cost about $15,280 per product. Based on these figures, we estimate the cost of this AD on U.S. operators to be $1,075,095, or $17,065 per product.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator.

“Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-06-12 Airbus: Amendment 39-18443. Docket No. FAA-2015-5815; Directorate Identifier 2015-NM-039-AD.

(a) Effective Date

This AD becomes effective May 3, 2016.

(b) Affected ADs

None.

(c) Applicability

This AD applies to the airplanes identified in paragraphs (c)(1) and (c)(2) of this AD, certificated in any category.

(1) Airbus Model A330-201, -202, -203, -223, -243, -301, -302, -303, -321, -322, -323, -341, -342, and -343 airplanes, all manufacturer serial numbers, except those on which Airbus modification 201715, or Airbus modification 201796, or Airbus modification 201938 has been embodied in production.

(2) Airbus Model A340-211, -212, -213, -311, -312, -313, -541, and -642 airplanes, all manufacturing serial numbers.

(d) Subject

Air Transport Association (ATA) of America Code 52, Doors.

(e) Reason

This AD was prompted by reports that the potable water service panel access door was lost during flight. We are issuing this AD to prevent failure of the latching mechanism of the potable water service panel access door, which could result in the loss of the potable water service panel access door during flight, and resultant damage to the airplane (e.g., damage to the trimmable horizontal stabilizer) that could cause loss of control of the airplane.

(f) Compliance

Comply with this AD within the compliance times specified, unless already done.

(g) Modification

(1) Except as required by paragraph (g)(2) of this AD, within 36 months after the effective date of this AD, modify the affected potable water service panel access door, in accordance with the Accomplishment Instructions of the service information identified in paragraph (g)(1)(i), (g)(1)(ii), or (g)(1)(iii) of this AD, as applicable to airplane type and model.

(i) Airbus Service Bulletin A330-52-3086, Revision 01, dated April 25, 2014.

(ii) Airbus Service Bulletin A340-52-4094, Revision 01, dated April 25, 2014.

(iii) Airbus Service Bulletin A340-52-5019, Revision 01, dated April 25, 2014.

(2) For airplanes that have already been modified before the effective date of this AD, as specified in the service information identified in paragraph (g)(2)(i), (g)(2)(ii), or (g)(2)(iii) of this AD, as applicable to airplane type and model: Within 16 months after the effective date of this AD, modify the potable water service panel access door by accomplishing the actions identified as “additional work,” as specified in and in accordance with the Accomplishment Instructions of the service information identified in paragraph (g)(1)(i), (g)(1)(ii), or (g)(1)(iii) of this AD, as applicable to airplane type and model.

(i) Airbus Service Bulletin A330-52-3086, dated April 27, 2012.

(ii) Airbus Service Bulletin A340-52-4094, dated April 27, 2012.

(iii) Airbus Service Bulletin A340-52-5019, dated May 29, 2012.

(h) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(i) Related Information

Refer to Mandatory Continuing Airworthiness Information (MCAI) EASA Airworthiness Directive 2015-0028R1, dated May 29, 2015, for related information. This MCAI may be found in the AD docket on the Internet at http://www.regulations.gov by searching for and locating Docket No. FAA-2015-5815.

(j) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A330-52-3086, Revision 01, dated April 25, 2014.

(ii) Airbus Service Bulletin A340-52-4094, Revision 01, dated April 25, 2014.

(iii) Airbus Service Bulletin A340-52-5019, Revision 01, dated April 25, 2014.

(3) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on March 16, 2016.
Michael Kaszycki,
Acting Manager, Transport Airplane Directorate, Aircraft Certification Service.

[FR Doc. 2016-06524 Filed 3-28-16; 8:45 am]

BILLING CODE 4910-13-P